DEPARTMENT OF TRANSPORTATION

Federal Aviation Administration

14 CFR Part 39

[Docket No. FAA-2016-9113; Directorate Identifier 2016-NM-042-AD]

RIN 2120-AA64

Airworthiness Directives; Airbus Defense and Space S.A. (Formerly Known as Construcciones Aeronauticas, S.A.) Airplanes

AGENCY: Federal Aviation Administration (FAA), DOT.

ACTION: Notice of proposed rulemaking (NPRM).

SUMMARY: We propose to adopt a new airworthiness directive (AD) for all Airbus Defense and Space S.A. (formerly known as Construcciones Aeronauticas, S.A.) Model CN-235, CN 235-100, CN 235-200, and CN 235-300 airplanes. This proposed AD was prompted by reports of cracks in certain areas of the rear fuselage. This proposed AD would require repetitive borescope and detailed visual inspections of the rear fuselage lateral beam and its external area and repair if necessary. We are proposing this AD to detect and correct cracks in the rear fuselage lateral beam and its external area; such cracking could lead to failure of the affected components, and result in reduced structural integrity of the fuselage.

DATES: We must receive comments on this proposed AD by November 14, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Airbus Defence and Space, Services/Engineering Support, Avenida de Aragón 404, 28022 Madrid, Spain; telephone +34 91 585 55 84; fax +34 91 585 31 27; email MTA.TechnicalService@Airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-9113; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Shahram Daneshmandi, Aerospace Engineer, International Branch, ANM-116, Transport Airplane Directorate, FAA, 1601 Lind Avenue SW., Renton, WA 98057-3356; telephone 425-227-1112; fax 425-227-1149.

SUPPLEMENTARY INFORMATION:

Comments Invited

We invite you to send any written relevant data, views, or arguments about this proposed AD. Send your comments to an address listed under the ADDRESSES section. Include “Docket No. FAA-2016-9113; Directorate Identifier 2016-NM-042-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued Airworthiness Directive 2016-0064, dated April 04, 2016 (referred to after this as the Mandatory Continuing Airworthiness Information, or “the MCAI”), to correct an unsafe condition for certain Airbus Defense and Space S.A. Model CN-235, CN-235-100, CN-235-200, and CN-235-300 airplanes. The MCAI states:

During a scheduled visual inspection accomplished in accordance with the CN-235 Maintenance Review Board (MRB) Document task 53.160, cracking was found, affecting the rear fuselage lateral beam, both left hand (LH) and right hand (RH) sides. The investigation to determine the cause of these cracks is on-going.

This condition, if not detected and corrected, could lead to failure of the affected components, resulting in reduced structural integrity of the fuselage.

To address this potential unsafe condition, Airbus Defence and Space (D&S) issued Alert Operator Transmission (AOT) AOT-CN235-53-0002 Revision 1 (hereafter referred to as `the AOT' in this AD) to provide inspection instructions.

For the reasons described above, this [EASA] AD requires repetitive inspections [special detailed inspection with a borescope and detailed visual] of the rear fuselage lateral beam and its external area and, depending on findings, [cracks or discrepancies], accomplishment of applicable corrective action(s) [repair].

You may examine the MCAI in the AD docket on the Internet at http://www.regulations.gov by searching for and locating Docket No. FAA-2016-9113.

Related Service Information Under 1 CFR Part 51

We reviewed Airbus Defense and Space Alert Operators Transmission (AOT), AOT-CN235-53-0002, Revision 1, dated September 17, 2015. This service information describes repetitive borescope and detailed visual inspection requirements for the rear fuselage lateral beam and its external area. This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 13 airplanes of U.S. registry.

We estimate the following costs to comply with this proposed AD:

Estimated Costs
Action | Labor cost | Parts cost | Cost per product | Cost on U.S. operators
Inspection | 2 work-hours × $85 per hour = $170 | 0 | $170 | $2,210

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus Defense and Space S.A. (Formerly Known as Construcciones Aeronauticas, S.A.): Docket No. FAA-2016-9113; Directorate Identifier 2016-NM-042-AD.

(a) Comments Due Date

We must receive comments by November 14, 2016.

(b) Affected ADs

None.

(c) Applicability

This AD applies to Airbus Defense and Space S.A. (formerly known as Construcciones Aeronauticas, S.A.) Model CN-235, CN-235-100, CN-235-200, and CN-235-300 airplanes, certificated in any category, all manufacturer serial numbers.

(d) Subject

Air Transport Association (ATA) of America Code 53, Fuselage.

(e) Reason

This AD was prompted by reports of cracks in certain areas of the rear fuselage. We are issuing this AD to detect and correct cracks in the rear fuselage lateral beam and its external area; such cracking could lead to failure of the affected components, and result in reduced structural integrity of the fuselage.

(f) Compliance

Comply with this AD within the compliance times specified, unless already done.

(g) Repetitive Inspections on the Fuselage Lateral Beam

Within the compliance time specified in Table 1 to paragraph (g) of this AD and, thereafter, at intervals not to exceed the values specified in Table 2 to paragraph (g) of this AD, as applicable to airplane model, accomplish the inspections as specified in paragraphs (g)(1) and (g)(2) of this AD, in accordance with the instructions of Airbus Defense and Space Alert Operators Transmission (AOT) AOT-CN235-53-0002, Revision 1, dated September 17, 2015.

(1) A special detailed inspection for cracks and other discrepancies with a borescope of the rear fuselage lateral beam between Frame (FR) 31 and FR45, left-hand (LH) and right-hand (RH) side.

(2) A detailed visual inspection for cracks and other discrepancies of the external area of the rear fuselage lateral beam, LH and RH side.

Table 1 to Paragraph (g) of This AD—Initial Inspection Compliance Time
A or B, whichever occurs later
A | Before exceeding 15,000 flight cycles or 15,000 flight hours, whichever occurs first since airplane first flight.
B | Within 50 flight cycles or 50 flight hours whichever occurs first after the effective date of this AD.

Table 2 to Paragraph (g) of This AD—Repetitive Inspection Intervals
Airplane models | Repetitive interval (whichever occurs first, flight cycles or flight hours)
Model CN-235 and CN-235-100 airplanes | 3,600 flight cycles or 3,100 flight hours.
Model CN-235-200 airplanes | 3,600 flight cycles or 2,800 flight hours.
Model CN-235-300 airplanes | 15,000 flight cycles or 15,000 flight hours.

(h) Repair

If any crack or discrepancy is found during any inspection required by paragraph (g) of this AD: Before further flight, contact and obtain repair instructions from Airbus Defense and Space S.A. in accordance with paragraph (k)(2) of this AD, and within the compliance time indicated in those instructions, accomplish the repair accordingly, including any post-repair maintenance task(s), as applicable.

(i) Continued Inspection of Repaired Areas

Accomplishment of a repair on an airplane, as required by paragraph (h) of this AD, does not constitute terminating action for the repetitive inspections as required by paragraph (g) of this AD for that airplane, unless specified in the applicable repair instructions obtained in paragraph (h).

(j) Credit for Previous Actions

This paragraph provides credit for actions required by paragraphs (g) and (h) of this AD, if those actions were performed before the effective date of this AD, using Airbus Defense and Space AOT AOT-CN235-53-0002, dated August 28, 2015.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Shahram Daneshmandi, Aerospace Engineer, International Branch, ANM-116, Transport Airplane Directorate, FAA, 1601 Lind Avenue SW., Renton, WA 98057-3356; telephone 425-227-1112; fax 425-227-1149. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or EASA; or Airbus Defense and Space S.A.'s EASA Design Organization Approval (DOA). If approved by the DOA, the approval must include the DOA-authorized signature.

(l) Related Information

(1) Refer to Mandatory Continuing Airworthiness Information (MCAI) EASA Airworthiness Directive 2016-0064, dated April 04, 2016, for related information. This MCAI may be found in the AD docket on the Internet at http://www.regulations.gov by searching for and locating Docket No. FAA-2016-9113.

(2) For service information identified in this AD, contact EADS-CASA, Military Transport Aircraft Division (MTAD), Integrated Customer Services (ICS), Technical Services, Avenida de Aragón 404, 28022 Madrid, Spain; telephone +34 91 585 55 84; fax +34 91 585 55 05; email MTA.TechnicalService@casa.eads.net; Internet http://www.eads.net. You may view this service information at the FAA, Transport Airplane Directorate, 1601 Lind Avenue SW., Renton, WA. For information on the availability of this material at the FAA, call 425-227-1221.

Issued in Renton, Washington, on September 16, 2016.
Suzanne Masterson,
Acting Manager, Transport Airplane Directorate, Aircraft Certification Service.

[FR Doc. 2016-23085 Filed 9-28-16; 8:45 am]

BILLING CODE 4910-13-P